AFRICAN DEVELOPMENT FOUNDATION

Public Quarterly Meeting of the Board of Directors

AGENCY: United States African Development Foundation.

ACTION: Notice of meeting.

SUMMARY: The US African Development Foundation (USADF) will hold its quarterly meeting of the Board of Directors to discuss the agency's programs and administration.

DATES: The meeting date is Tuesday, February 2, 2016, 10:00 a.m. to 12:00 p.m.

ADDRESSES: The meeting location is OPIC, 1100 New York Ave. NW., Washington, DC 20527.

FOR FURTHER INFORMATION CONTACT: Julia Lingham, 202-233-8811.

Authority: Public Law 96-533 (22 U.S.C. 290h).

Dated: January 14, 2016.
Doris Mason Martin,
General Counsel.

[FR Doc. 2016-01077 Filed 1-20-16; 8:45 am]

BILLING CODE 6117-01-P